DEPARTMENT OF AGRICULTURE

Forest Service

Notice of New Fee Site; Federal Lands Recreation Enhancement Act, (Title VIII, Pub. L. 108-447)

AGENCY: Lincoln National Forest, Forest Service, USDA.

ACTION: Notice of new fee site.

SUMMARY: The Lincoln National Forest is proposing to charge a $65 fee each for the overnight rentals of two cabins: The Wofford Lookout Tower Complex and the Dark Canyon Lookout and Cabin. The Wofford Complex consists of an 80-foot lookout tower, cabin, additional sleeping cabin and an outhouse, while Dark Canyon consists of a 48-foot steel tower and an observer's cabin. Neither facility has been available for overnight use prior to this date. Rentals of other cabins in the Southwestern Region have shown that people appreciate and enjoy the availability of historic cabins and lookouts. Wofford Cabin is listed in the Federal Register of Historic Places. Funds from both the rentals will be used for the continued operation and maintenance of each of the facilities. These fees are only proposed and will be determined upon further analysis and public comment.

DATES: Send any comments about these fee proposals by August 2016 so comments can be compiled, analyzed and shared with a Recreation Resource Advisory Committee. Should the fee proposal move forward, both rentals will likely be available October 2016.

ADDRESSES: Forest Supervisor, Lincoln National Forest, 3463 Las Palomas Rd., Alamogordo, NM 88310.

FOR FURTHER INFORMATION CONTACT: Sharon Cuevas, Recreation Fee Coordinator, (505)842-3235

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

Currently no Federal or State agencies in the state of New Mexico offer over-night rentals of any type. Arizona, the neighboring state in Region 3, provides several historic properties for public rental and that program has become very successful. With its very tall height and Civilian Conservation Corps (CCC) cabin, the Wofford Lookout Tower Complex will provide a unique recreational experience for both local visitors and travelers. The Dark Canyon lookout came from U.S. Army surplus in 1949 and is one of only two types of these lookouts in the Southwestern Region. It also features a CCC cabin. A market analysis indicates that the $65/per night fee is both reasonable and acceptable for this sort of unique recreation experience.

People wanting to rent either facility will need to do so through the National Recreation Reservation Service, at www.recreation.gov or by calling 1-877-444-6777. The National Recreation Reservation Service charges a $9 fee for reservations.

Dated: March 18, 2016.
Travis Moseley,
Lincoln National Forest Supervisor.

[FR Doc. 2016-08172 Filed 4-8-16; 8:45 am]

BILLING CODE 3411-15-P